DEPARTMENT OF LABOR

Office of the Secretary

Submission for OMB Review: Comment Request

May 26, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Presence Sensing Device Initiation (PSDI) (29 CFR 1910.217(h)).

OMB Number: 1218-0143.

Frequency: On occasion and annually.

Type of Response: Recordkeeping and third party disclosure.

Affected Public: Business or other for-profit; not-for-profit institutions; Federal government; and State, local, or tribal government.

Number of Respondents: 1.

Number of Annual Responses: 1.

Estimated Time Per Response: N/A.

Total Burden Hours: 1.

Total Annualized Capital/Startup Costs: $0.

Total Annual Costs (Operating/Maintaining Systems or Purchasing Services): $0.

Description: By complying with the information-collection requirements in the Standard on Presence Sensing Device Initiation/PSDI (29 CFR 1910.217(h)), employers ensure that PSDI-equipped mechanical power presses are in safe working order, thereby preventing severe injury and death to press operators and other employees who work near this equipment. In addition, these records provide the most efficient means for an OSHA compliance officer to determine that an employer performed the requirements and that the equipment is safe.

Agency: Occupational Safety and Health Administration.

Type of Review: Extension of currently approved collection.

Title: Crawler, Locomotive, and Truck Cranes Standard (29 CFR 1910.180).

OMB Number: 1218-0221.

Frequency: On occasion; semi-annually; and monthly.

Type of Response: Recordkeeping and third party disclosure.

Affected Public: Business or other for-profit; not-for-profit institutions; Federal government; and State, local, or tribal government.

Number of Respondents: 20,000.

Number of Annual Responses: 462,320.

Estimated Time Per Response: Varies from 5 minutes to disclose certification records to 1 hour to conduct rated load tests.

Total Burden Hours: 174,062.

Total Annualized Capital/Startup Costs: $0.

Total Annual Costs (Operating/Maintaining Systems or Purchasing Services): $0.

Description: 29 CFR 1910.180 (“the Standard”) regulates the operation of crawler, locomotive, and truck cranes. The paperwork provisions of the Standard specify requirements for developing, maintaining, and disclosing inspection records for cranes and ropes, as well as disclosing written reports of rated load tests.

Agency: Occupational Safety and Health Administration.

Type of Review: Extension of currently approved collection.

Title: Overhead and Gantry Cranes Standard (29 CFR 1910.179).

OMB Number: 1218-0224.

Frequency: On occasion and monthly.

Type of Response: Recordkeeping and third party disclosure.

Affected Public: Business or other for-profit; not-for-profit institutions; Federal government; and State, local, or tribal government.

Number of Respondents: 35,000.

Number of Annual Responses: 720,595.

Estimated Time Per Response: Varies from 5 minutes to disclose certification records to 2 hours to obtain and post rated load information on cranes.

Total Burden Hours: 360,179.

Total Annualized Capital/Startup Costs: $0.

Total Annual Costs (Operating/Maintaining Systems or Purchasing Services): $0.

Description: 29 CFR 1910.179 (“the Standard”) regulates the operation of overhead and gantry cranes. The paperwork provisions of the Standard specify requirements for: Marking the rated load of cranes; preparing certification records to verify the inspection of the crane hooks, hoist chains, and ropes; and preparing reports of rated load test for repaired hooks or modified cranes. Records and reports must be maintained and disclosed upon request.

Agency: Occupational Safety and Health Administration.

Type of Review: Extension of currently approved collection.

Title: Standard on Mechanical Power Presses (29 CFR 1910.217(e)(1)(i) and (e)(1)(ii)).

OMB Number: 1218-0229.

Frequency: Weekly and monthly.

Type of Response: Recordkeeping and third party disclosure.

Affected Public: Business or other for-profit; not-for-profit institutions; Federal government; and State, local, or tribal government.

Number of Respondents: 295,000.

Number of Annual Responses: 9,975,130.

Estimated Time Per Response: Varies from 2 minutes to disclose certification records to 20 minutes to inspect the parts, auxiliary equipment, and safeguards of each mechanical power press.

Total Burden Hours: 1,373,054.

Total Annualized Capital/Startup Costs: $0.

Total Annual Costs (Operating/Maintaining Systems or Purchasing Services): $0.

Description: The purpose of the information collection requirements in the Standard on Mechanical Power Presses (29 CFR 1910.217(e)(1)(i) and (e)(1)(ii)) is to reduce employees' risk of death or serious injury by ensuring that employers maintain the mechanical power presses used by the employees in safe operating condition.

Agency: Occupational Safety and Health Administration.

Type of Review: Extension of currently approved collection.

Title: Additional Requirements for Special Dipping and Coating Operations (Dip Tanks) (29 CFR 1910.126(g)(4)).

OMB Number: 1218-0237.

Frequency: On occasion.

Type of Response: Recordkeeping and third party disclosure.

Affected Public: Business or other for-profit; not-for-profit institutions; Federal government; and State, local, or tribal government.

Number of Respondents: 1.

Number of Annual Responses: 1.

Estimated Time Per Response: N/A.

Total Burden Hours: 1.

Total Annualized Capital/Startup Costs: $0.

Total Annual Costs (Operating/Maintaining Systems or Purchasing Services): $0.

Description: The standard on Additional Requirements for Special Dipping and Coating Operations, (29 CFR 1910.126(g)(4)), requires employers to post a conspicuous sign near each piece of electrostatic-detearing equipment that notifies employees of the minimum safe distance they must maintain between goods undergoing electrostatic detearing and the electrodes or conductors of the equipment used in the process. Doing so reduces the likelihood of igniting the explosive chemicals used in electrostatic-detearing operations.

OSHA has determined that where electrostatic equipment is being used, the information has already been ascertained and that the “safe distance” has been displayed on a sign in a permanent manner. OSHA has had discussions with individuals familiar with the use of this equipment, leading the Agency to believe that this equipment is no longer being manufactured or used due to changes in technology. OSHA does not believe there is any burden associated with the information collection requirement in the provision and is, therefore, estimating zero burden hours and no cost to the employer.

Ira L. Mills,
Departmental Clearance Officer.

[FR Doc. 04-12528 Filed 6-2-04; 8:45 am]

BILLING CODE 4510-26-P